DEPARTMENT OF TRANSPORTATION

Federal Aviation Administration

14 CFR Part 39

[Docket No. FAA-2013-1003; Directorate Identifier 2013-NE-33-AD; Amendment 39-17724; AD 2014-01-01]

RIN 2120-AA64

Airworthiness Directives; Turbomeca S.A. Turboshaft Engines

AGENCY: Federal Aviation Administration (FAA), DOT.

ACTION: Final rule; request for comments.

SUMMARY: We are adopting a new airworthiness directive (AD) for all Turbomeca S.A. Arrius 2F turboshaft engines. This AD requires a one-time inspection of the ejector assembly nozzle of an affected lubricating device and, if a discrepancy is found, removal and replacement with a part eligible for installation. This AD was prompted by an in-flight shutdown (IFSD) of an Arriel 1 engine. We are issuing this AD to prevent failure of the ejector assembly nozzle, which could lead to an IFSD of the engine, damage to the engine, and damage to the helicopter.

DATES: This AD becomes effective February 6, 2014.

We must receive comments on this AD by March 10, 2014.

The Director of the Federal Register approved the incorporation by reference of a certain publication listed in the AD as of February 6, 2014.

ADDRESSES: You may send comments by any of the following methods:

• Federal eRulemaking Portal: Go to http://www.regulations.gov and follow the instructions for sending your comments electronically.

• Mail: U.S. Department of Transportation, 1200 New Jersey Avenue SE., West Building Ground Floor, Room W12-140, Washington, DC 20590-0001.

• Hand Delivery: Deliver to Mail address above between 9 a.m. and 5 p.m., Monday through Friday, except Federal holidays.

• Fax: 202-493-2251.

For service information identified in this AD, contact Turbomeca, S.A., 40220 Tarnos, France; phone: 33 (0)5 59 74 40 00; telex: 570 042; fax: 33 (0)5 59 74 45 15. You may view this service information at the FAA, Engine & Propeller Directorate, 12 New England Executive Park, Burlington, MA 01803. For information on the availability of this material at the FAA, call 781-238-7125.

Examining the AD Docket

You may examine the AD docket on the Internet at http://www.regulations.gov by searching for and locating Docket No. FAA-2013-1003; or in person at the Docket Operations office between 9 a.m. and 5 p.m., Monday through Friday, except Federal holidays. The AD docket contains this AD, the mandatory continuing airworthiness information (MCAI), the regulatory evaluation, any comments received, and other information. The street address for the Docket Operations office (phone: 800-647-5527) is the same as the Mail address provided in the ADDRESSES section. Comments will be available in the AD docket shortly after receipt.

FOR FURTHER INFORMATION CONTACT: Frederick Zink, Aerospace Engineer, Engine Certification Office, FAA, Engine & Propeller Directorate, 12 New England Executive Park, Burlington, MA 01803; phone: 781-238-7779; fax: 781-238-7199; email: frederick.zink@faa.gov.

SUPPLEMENTARY INFORMATION:

Discussion

The European Aviation Safety Agency (EASA), which is the Technical Agent for the Member States of the European Community, has issued EASA Airworthiness Directive 2013-0243, dated October 1, 2013 (referred to herein after as “the MCAI”), to correct an unsafe condition for the specified products. The MCAI states:

An in-flight shutdown (IFSD) occurred on an ARRIEL 1 engine, as a result of incorrect bonding of the nozzle on the ejector assembly fitted to the engine. The subsequent technical investigation concluded that ARRIUS 2F engines are also potentially affected and it was possible to identify a batch of parts that could have this non-conformity.

This condition, if not detected and corrected, could lead to further cases of IFSD, possibly resulting in forced landing.

Failure to address this condition may lead to an emergency landing and subsequent damage to the helicopter. You may obtain further information by examining the MCAI in the AD docket on the Internet at http://www.regulations.gov by searching for and locating it in Docket No. FAA-2013-1003.

Relevant Service Information

Turbomeca S.A. has issued MSB No. 319 79 4835, Version A, dated May 22, 2013. The actions described in this service information are intended to correct the unsafe condition identified in the MCAI.

FAA's Determination and Requirements of This AD

This product has been approved by the aviation authority of France and is approved for operation in the United States. Pursuant to our bilateral agreement with the European Community, EASA has notified us of the unsafe condition described in the MCAI and service information referenced above. We are proposing this AD because we evaluated all information provided by EASA and determined the unsafe condition exists and is likely to exist or develop on other products of the same type design. This proposed AD would require a one-time inspection of the nozzle of the ejector assembly of all Turbomeca S.A. Arrius 2F turboshaft engines and, if a discrepancy is found, removal of the ejector assembly or the affected lubricating device and its replacement with a part eligible for installation.

FAA's Determination of the Effective Date

An unsafe condition exists that requires the immediate adoption of this AD. The FAA has found that the risk to the flying public justifies waiving notice and comment prior to adoption of this rule because of the short compliance time requirement. Therefore, we find that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2013-1003; Directorate Identifier 2013-NE-33-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact with FAA personnel concerning this AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Costs of Compliance

We estimate that this AD will affect about 27 engines installed on aircraft of U.S. registry. We also estimate that it will take about 1 hour per engine to comply with this AD. The average labor rate is $85 per hour. Required parts cost about $526 per engine. Based on these figures, we estimate the cost of this AD on U.S. operators to be $16,497.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-01-01 Turbomeca S.A.: Amendment 39-17724; Docket No. FAA-2013-1003; Directorate Identifier 2013-NE-33-AD.

(a) Effective Date

This AD is effective February 6, 2014.

(b) Affected ADs

None.

(c) Applicability

This AD applies to all Turbomeca S.A. Arrius 2F turboshaft engines.

(d) Reason

This AD was prompted by an in-flight shutdown (IFSD) of an Arriel 1 engine as a result of incorrect bonding of the nozzle on the ejector assembly fitted to the engine. We are issuing this AD to prevent failure of the ejector assembly nozzle, which could lead to an IFSD of the engine, damage to the engine, and damage to the helicopter.

(e) Actions and Compliance

Comply with this AD within the compliance times specified, unless already done.

(1) For engines equipped with a lubricating device having a serial number (S/N) listed in Figure 1 to paragraph (e) of this AD, within 30 days after the effective date of this AD, inspect the nozzle of the ejector assembly and the tightening torque. Use paragraph 6.B.(2)(b)2 through 6.B.(2)(c)4.2, excluding paragraph 6.B.(2)(b)4, of Turbomeca Mandatory Service Bulletin (MSB) No. 319 79 4835, Version A, dated May 22, 2013, to do your inspection.

(2) For any part that fails the inspection required by paragraph (e)(1) of this AD, before further flight, remove and replace the failed part with a part eligible for installation.

Figure 1 to Paragraph (e)—S/N's of Affected Lubricating Devices
S/N's
105M | 108M | 109M
112B | 120 | 122B
129M | 134B | 138B
141M | 142B | 147M
149B | 210M | 231
247 | 254 | 266M
270 | 292M | 333M
443M | 445M | 467M
479M | 526M | 563M

(f) Installation Prohibition

After the effective date of this AD, do not install onto any engine a nozzle ejector assembly subject to this AD, or install any engine onto any helicopter if the engine has an ejector assembly containing a lubricating device with an S/N listed in Figure 1 to paragraph (e) of this AD, unless the engine has been inspected per the requirements of paragraph (e) of this AD.

(g) Alternative Methods of Compliance (AMOCs)

The Manager, Engine Certification Office, FAA, may approve AMOCs to this AD. Use the procedures found in 14 CFR 39.19 to make your request.

(h) Related Information

(1) For more information about this AD, contact Frederick Zink, Aerospace Engineer, Engine Certification Office, FAA, Engine & Propeller Directorate, 12 New England Executive Park, Burlington, MA 01803; phone: 781-238-7779; fax: 781-238-7199; email: frederick.zink@faa.gov.

(2) Refer to MCAI European Aviation Safety Agency AD 2013-0243, dated October 1, 2013. You may examine the MCAI in the AD docket on the Internet at http://www.regulations.gov by searching for and locating it in Docket No. FAA-2013-1003.

(3) Turbomeca S.A. Arrius 2F Technical Instruction No. 319 79 4831, Revision No. 01, dated May 30, 2011, which is not incorporated by reference in this AD, pertains to the subject of this AD and can be obtained from Turbomeca S.A. using the contact information in paragraph (i)(3) of this AD.

(i) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Turbomeca S.A. Mandatory Service Bulletin No. 319 79 4835, Version A, dated May 22, 2013.

(ii) Reserved.

(3) For Turbomeca service information identified in this AD, contact Turbomeca, S.A., 40220 Tarnos, France; phone: 33 (0)5 59 74 40 00; telex: 570 042; fax: 33 (0)5 59 74 45 15.

(4) You may view this service information at FAA, Engine & Propeller Directorate, 12 New England Executive Park, Burlington, MA. For information on the availability of this material at the FAA, call 781-238-7125.

(5) You may view this service information at the National Archives and Records Administration (NARA). For information on the availability of this material at NARA, call 202-741-6030, or go to: http://www.archives.gov/federal-register/cfr/ibr-locations.html.

Issued in Burlington, Massachusetts, on January 2, 2014.
Colleen M. D'Alessandro,
Assistant Directorate Manager, Engine & Propeller Directorate, Aircraft Certification Service.

[FR Doc. 2014-01090 Filed 1-21-14; 8:45 am]

BILLING CODE 4910-13-P